ENVIRONMENTAL PROTECTION AGENCY

40 CFR Part 52

[EPA-R02-OAR-2019-0681; FRL-10014-13-Region 2]

Approval and Promulgation of Implementation Plans; New Jersey; Revisions to Emissions Reporting Requirements

AGENCY: Environmental Protection Agency (EPA).

ACTION: Final rule.

SUMMARY: The Environmental Protection Agency (EPA) is approving a state implementation plan (SIP) revision submitted by the State of New Jersey. This revision removes from the SIP the recordkeeping, emission reporting, photochemical dispersion modeling, and inventory requirements for t-butyl acetate (TBAC) as a volatile organic compound (VOC). The revision is in accordance with the requirements of the Clean Air Act (CAA).

DATES: This final rule is effective on November 30, 2020.

ADDRESSES: EPA has established a docket for this action under Docket ID Number EPA-R02-OAR-2019-0681. All documents in the docket are listed on the http://www.regulations.gov. website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Ysabel Banon, Air Programs Branch, Environmental Protection Agency, Region 2 Office, 290 Broadway, 25th Floor, New York, New York 10007-1866, (212) 637-3382, or by email at banon.ysabel@epa.gov.

SUPPLEMENTARY INFORMATION:

I. Background

On June 4, 2020, the EPA published a notice of proposed rulemaking (NPRM) for the State of New Jersey. 85 FR 34379. In the NPRM, the EPA proposed to approve New Jersey's November 29, 2017 submittal requesting to remove the recordkeeping, reporting, modeling, and inventory requirements for TBAC from the SIP. The reader is referred to EPA's NPRM for more detailed background and rationale for this final action.

II. Summary of the SIP Revision and the EPA's Analysis

The EPA previously determined that TBAC has a negligible level of reactivity, revised the definition of VOC to exclude TBAC, and removed the recordkeeping, emission reporting, photochemical dispersion modeling, and inventory requirements for TBAC. 69 FR 69298 (November 29, 2004); 81 FR 9339 (February 25, 2016).

In order to conform with the EPA's current regulatory requirements for TBAC, New Jersey requested that New Jersey Administrative Code (NJAC) 7:27-34, “TBAC Emissions Reporting,” consisting of TBAC recordkeeping, emissions reporting, photochemical dispersion modeling, and inventory requirements, be removed from the SIP.

III. What comments were received in response to the EPA's proposed action?

The EPA did not receive any comments in response to the June 4, 2020 NPRM.

IV. Final Action

The EPA is approving the removal of NJAC 7:27-34, “TBAC Emissions Reporting,” which includes recordkeeping, emissions reporting, photochemical dispersion modeling, and inventory requirements for TBAC, from the New Jersey SIP. This SIP revision will not interfere with attainment of any national ambient air quality standard (NAAQS), reasonable further progress, or any other requirement of the CAA, including Section 110(l), and is consistent with the EPA's February 25, 2016 final rule. 81 FR 9339.

V. Incorporation by Reference

In this document, the EPA is amending regulatory text that includes incorporation by reference. As described in the amendments to 40 CFR part 52 set forth below, the EPA is removing provisions of the EPA-Approved New Jersey State Regulations and Laws from the New Jersey State Implementation Plan, which is incorporated by reference in accordance with the requirements of 1 CFR part 51.

VI. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rulemaking action, pertaining to TBAC, is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 28, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Nitrogen dioxide, Ozone, Reporting and recordkeeping requirements, and Volatile organic compounds.

Dated: September 17, 2020.
Peter Lopez,
Regional Administrator, Region 2.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart FF—New Jersey

§ 52.1570 [Amended]

2. In § 52.1570, amend the table in paragraph (c) by removing the entry “Title 7, Chapter 27, Subchapter 34”.

[FR Doc. 2020-22764 Filed 10-28-20; 8:45 am]

BILLING CODE 6560-50-P